DEPARTMENT OF TRANSPORTATION

Federal Aviation Administration

Public Notice for Waiver of Aeronautical Land-Use Assurance; Shell Lake Municipal Airport, Shell Lake, WI

AGENCY: Federal Aviation Administration, DOT

ACTION: Notice of intent of waiver with respect to land.

SUMMARY: The Federal Aviation Administration (FAA) is considering a proposal to authorize the release of 0.101 acres of the airport property at the Shell Lake Municipal Airport, Shell Lake, WI.

A recently-completed boundary survey of the airport found that a privately-owned structure encroaches onto land owned by the airport. This finding has resulted in a proposal to transfer the affected parcel of airport land to the neighboring owner in exchange for that owner transferring a parcel of its own land to the airport. Release of the 0.101 acre parcel from land assurances would allow the encroaching structure to remain standing. The parcel to be acquired by the airport in the land exchange (0.021 acres) would give the airport ownership of a key parcel of land located within the 14 CFR part 77-defined, primary surface of Runway 14/32.

A categorical exclusion for this land release action was prepared by Wisconsin Dept. of Transportation-Bureau of Aeronautics and issued on February 28, 2011.

The aforementioned land is not needed for aeronautical use, as shown on the Airport Layout Plan. There are no impacts to the airport by allowing the airport to dispose of the property.

The parcel to be released was originally acquired with local funds in 1961. To compensate for the uneven exchange of land area (0.101 acres to be released by the airport vs. 0.021 acres to be acquired by the airport), the airport will receive $1,000 in additional compensation to be used at the airport for maintenance and/or improvement purposes.

In accordance with section 47107(h) of title 49, United States Code, this notice is required to be published in the Federal Register 30 days before modifying the land-use assurance that requires the property to be used for an aeronautical purpose.

DATES: Comments must be received on or before July 25, 2011.

ADDRESSES: Mr. Daniel J. Millenacker, Program Manager, Federal Aviation Administration, Airports District Office, 6020 28th Avenue South, Room 102, Minneapolis, MN 55450-2706. Telephone Number (612) 713-4350/Fax Number (612) 713-4364. Documents reflecting this FAA action may be reviewed at the following locations: Federal Aviation Administration, Minneapolis Airports District Office, Delta F Building, 7200 34th Ave. So., Suite B, Minneapolis, MN 55450; or at the Wisconsin Department of Transportation, 4802 Sheboygan Ave., Room 701, Madison, WI 53707.

FOR FURTHER INFORMATION CONTACT: Mr. Daniel J. Millenacker, Program Manager, Federal Aviation Administration, Airports District Office, 6020 28th Avenue South, Room 102, Minneapolis, MN 55450-2706. Telephone Number (612) 713-4350/Fax Number (612)713-4364. Documents reflecting this FAA action may be reviewed at the following locations: Federal Aviation Administration, Minneapolis Airports District Office, Delta F Building, 7200 34th Ave. So., Suite B, Minneapolis, MN 55450; or at the Wisconsin Department of Transportation, 4802 Sheboygan Ave., Room 701, Madison, WI 53707.

SUPPLEMENTARY INFORMATION: Following is a description of the subject airport property to be released at Shell Lake Municipal Airport in Shell Lake, Wisconsin and described as follows:

Parcel of land in Government Lot 3, Section 36, T38N, R13W, 4th Principal Meridian extended, City of Shell Lake, Washburn County, Wisconsin.

Said parcel subject to all easements, restrictions, and reservations of record.

Issued in Minneapolis, MN on May 31, 2011.
Steven J. Obenauer,
Manager, Minneapolis Airports District Office, FAA, Great Lakes Region.

[FR Doc. 2011-15744 Filed 6-22-11; 8:45 am]

BILLING CODE 4910-13-P